DEPARTMENT OF AGRICULTURE

Animal and Plant Health Inspection Service

[Docket No. APHIS-2014-0029]

Notice of Availability of a Pest Risk Analysis for Interstate Movement of Fresh Achachairú Fruit From Puerto Rico

AGENCY: Animal and Plant Health Inspection Service, USDA.

ACTION: Notice of availability.

SUMMARY: We are advising the public that we have prepared a pest risk analysis (PRA) that evaluates the risks associated with the interstate movement into the continental United States of fresh achachairú fruit from Puerto Rico. Based on that analysis, we believe that the application of one or more designated phytosanitary measures will be sufficient to mitigate the risks of introducing or disseminating plant pests or noxious weeds via the interstate movement of achachairú from Puerto Rico. We are making the PRA available to the public for review and comment.

DATES: We will consider all comments that we receive on or before August 11, 2014.

ADDRESSES: You may submit comments by either of the following methods:

• Federal eRulemaking Portal: Go to http://www.regulations.gov/#!docketDetail;D=APHIS-2014-0029.

• Postal Mail/Commercial Delivery: Send your comment to Docket No. APHIS-2014-0029, Regulatory Analysis and Development, PPD, APHIS, Station 3A-03.8, 4700 River Road, Unit 118, Riverdale, MD 20737-1238.

Supporting documents and any comments we receive on this docket may be viewed at http://www.regulations.gov/#!docketDetail;D=APHIS-2014-0029 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David Lamb, Senior Regulatory Policy Specialist, Regulatory Coordination and Compliance, PPQ, APHIS, 4700 River Road, Unit 133, Riverdale, MD 20737-1231; (301) 851-2103.

SUPPLEMENTARY INFORMATION:

Background

Under the regulations in “Subpart—Regulated Articles From Hawaii and the Territories” (7 CFR 318.13-1 through 318.13-26, referred to below as the regulations), the Animal and Plant Health Inspection Service (APHIS) of the U.S. Department of Agriculture (USDA) prohibits or restricts the interstate movement of fruits and vegetables into the United States from Hawaii, Puerto Rico, the U.S. Virgin Islands, Guam, and the Commonwealth of the Northern Mariana Islands to prevent plant pests and noxious weeds from being introduced into and spread within the continental United States. (The continental United States is defined in § 318.13-2 of the regulations as the 48 contiguous States, Alaska, and the District of Columbia.)

Section 318.13-4 contains a performance-based process for approving the interstate movement of commodities that, based on the findings of a pest risk analysis, can be safely imported subject to one or more of the designated phytosanitary measures listed in paragraph (b) of that section. These measures are:

• The fruits and vegetables are inspected in the State of origin or in the first State of arrival;

• The fruits and vegetables originated from a pest-free area in the State of origin and the grower from which the fruit or vegetable originated has entered into a compliance agreement with the Administrator;

• The fruits and vegetables are treated in accordance with 7 CFR part 305 and the treatment is certified by an inspector;

• The fruits and vegetables are inspected and certified in the State of origin by an inspector and have been found free of one or more specific quarantine pests identified by risk analysis as likely to follow the pathway;

• The fruits and vegetables are moved as commercial consignments only; and/or

• The fruits and vegetables may be distributed only within a defined area and the boxes or containers in which the fruits or vegetables are distributed must be marked to indicate the applicable distribution restrictions.

APHIS received a request from a grower and research scientist with the Puerto Rico Department of Agriculture, with support from the USDA Agricultural Research Service and the Puerto Rico State Plant Health Director's office, to allow the interstate movement of fresh achachairú fruit from Puerto Rico to the continental United States. We have completed a pest risk assessment (PRA) to identify pests of quarantine significance that could follow the pathway of interstate movement into the continental United States and, based on that PRA, have prepared a risk management document (RMD) to identify phytosanitary measures that could be applied to the commodity to mitigate the pest risk. We have concluded that fresh achachairú fruit can be safely moved from Puerto Rico to the continental United States using one or more of the six designated phytosanitary measures listed in § 318.13-4(b).

Therefore, in accordance with § 318.13-4(c), we are announcing the availability of our PRA and RMD for public review and comment. The documents may be viewed on the Regulations.gov Web site or in our reading room (see ADDRESSES above for instructions for accessing Regulations.gov and information on the location and hours of the reading room). You may request paper copies of the PRA and RMD by calling or writing to the person listed under FOR FURTHER INFORMATION CONTACT. Please refer to the subject of the documents when requesting copies.

After reviewing the comments we receive, we will announce our decision regarding the interstate movement of fresh achachairú fruit from Puerto Rico to the continental United States in a subsequent notice. If the overall conclusions of the analysis and the Administrator's determination of risk remain unchanged following our consideration of the comments, then we will begin allowing the interstate movement of fresh achachairú fruit from Puerto Rico to the continental United States subject to the requirements specified in the RMD.

Authority: 7 U.S.C. 7701-7772 and 7781-7786; 7 CFR 2.22, 2.80, and 371.3.

Done in Washington, DC, this 6th day of June 2014.
Kevin Shea,
Administrator, Animal and Plant Health Inspection Service.

[FR Doc. 2014-13781 Filed 6-11-14; 8:45 am]

BILLING CODE 3410-34-P